DEPARTMENT OF HOMELAND SECURITY

Federal Emergency Management Agency

44 CFR Part 67

Final Flood Elevation Determinations

AGENCY: Federal Emergency Management Agency (FEMA), Emergency Preparedness and Response Directorate, Department of Homeland Security.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

EFFECTIVE DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: Doug Bellomo, P.E., Hazard Identification Section, Emergency Preparedness and Response Directorate, FEMA, 500 C Street SW., Washington, DC 20472, (202) 646-2903.

SUPPLEMENTARY INFORMATION: FEMA makes the final determinations listed below for the modified BFEs for each community listed. These modified elevations have been published in newspapers of local circulation and ninety (90) days have elapsed since that publication. The Mitigation Division Director of the Emergency Preparedness and Response Directorate, has resolved any appeals resulting from this notification.

This final rule is issued in accordance with Section 110 of the Flood Disaster Protection Act of 1973, 42 U.S.C. 4104, and 44 CFR part 67.

The Agency has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act

This rule is categorically excluded from the requirements of 44 CFR part 10, Environmental Consideration. No environmental impact assessment has been prepared.

Regulatory Flexibility Act

The Mitigation Division Director of the Emergency Preparedness and Response Directorate certifies that this rule is exempt from the requirements of the Regulatory Flexibility Act because final or modified BFEs are required by the Flood Disaster Protection Act of 1973, 42 U.S.C. 4104, and are required to establish and maintain community eligibility in the NFIP. No regulatory flexibility analysis has been prepared.

Regulatory Classification

This final rule is not a significant regulatory action under the criteria of Section 3(f) of Executive Order 12866 of September 30, 1993, Regulatory Planning and Review, 58 FR 51735.

Executive Order 12612, Federalism

This rule involves no policies that have federalism implications under Executive Order 12612, Federalism, dated Oct. 26, 1987.

Executive Order 12778, Civil Justice Reform

This rule meets the applicable standards of Section 2(b)(2) of Executive Order 12778.

List of Subjects in 44 CFR Part 67

Administrative practice and procedure, Flood insurance, Reporting and recordkeeping requirements.

Accordingly, 44 CFR part 67 is amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | # Depth in feet above ground. * Elevation in feet (NGVD) ÷ •Elevation in feet (NAVD)
NORTH CAROLINA
Robeson County (FEMA Docket No. D-7584)
Aaron Swamp:
At the confluence with Horse Swamp | •97
Approximately 2,000 feet upstream of Dew Road | •147
Robeson County (Unincorporated Areas) |
Alligator Swamp:
Approximately 0.7 mile downstream of Affinity Road | •69
Approximately 0.5 mile upstream of Marietta Road | •91
Robeson County (Unincorporated Areas) |
Ashpole Swamp:
At the NC/SC State boundary | •60
Approximately 0.42 mile upstream of State Route 710 | •155
Robeson County (Unincorporated Areas) |
Ashpole Swamp Tributary 1:
At the confluence with Ashpole Swamp | •100
Approximately 0.8 mile upstream of Butler Road | •123
Robeson County (Unincorporated Areas) |
Ashpole Swamp Tributary 2:
At the confluence with Ashpole Swamp | •107
Approximately 100 feet downstream of West Horne Road | •113
Robeson County (Unincorporated Areas) |
Ashpole Swamp Tributary 3:
At the confluence with Ashpole Swamp | •123
Approximately 0.4 mile upstream of State Route 710 | •143
Robeson County (Unincorporated Areas) |
Ashpole Swamp Tributary 4:
At the confluence with Ashpole Swamp | •126
Approximately 0.45 mile upstream of Bridges Road | •141
Robeson County (Unincorporated Areas) |
Bay Branch:
At the confluence with Indian Swamp | •94
Approximately 0.63 mile upstream of the confluence with Indian Swamp | •100
Robeson County (Unincorporated Areas) |
Bear Swamp:
Just upstream of State Route 710 | •183
Approximately 100 feet downstream of WL Moore Woods Road | •188
Robeson County (Unincorporated Areas) |
Beaverdam Branch:
At the confluence with Little Marsh Swamp | •152
Approximately 0.5 mile upstream of Carolina Church Road | •173
Robeson County (Unincorporated Areas) |
Big Branch (near Town of Marietta):
At the confluence with Ashpole Swamp | •76
Approximately 0.3 mile downstream of Shakespeare Road | •86
Robeson County (Unincorporated Areas) |
Big Branch (near Town of St. Pauls):
At the confluence with Big Marsh Swamp | •142
Approximately 0.6 mile upstream of CSX Transportation | •155
Robeson County (Unincorporated Areas) |
Big Branch Tributary 1:
At the confluence with Big Branch | •142
Approximately 0.5 mile upstream of the confluence with Big Branch | •152
Robeson County (Unincorporated Areas) |
Big Branch Tributary 2:
At the confluence with Big Branch | •145
Approximately 50 feet downstream of U.S. Route 301 | •156
Robeson County (Unincorporated Areas) |
Big Branch Canal:
At the confluence with Lumber River | •92
Approximately 1,225 feet upstream of Wilmington Highway | •100
Robeson County (Unincorporated Areas) |
Big Marsh Swamp:
At the confluence with Big Swamp | •122
At the Robeson/Hoke County boundary | •188
Robeson County (Unincorporated Areas) |
Big Marsh Swamp Tributary 1:
At the confluence with Big Marsh Swamp | •153
Approximately 600 feet upstream of Great Marsh Church Road | •169
Robeson County (Unincorporated Areas) |
Big Marsh Swamp Tributary 2:
At the confluence with Big Marsh Swamp | •167
Approximately 1,400 feet upstream of Pine Street | •185
Robeson County (Unincorporated Areas) |
Big Swamp:
At the upstream side of Railroad | •99
At the confluence of Big Marsh Swamp and Galberry Swamp | •122
Robeson County (Unincorporated Areas) |
Black Branch:
At the confluence with Big Marsh Swamp | •149
Approximately 800 feet upstream of State Route 20 | •165
Robeson County (Unincorporated Areas) |
Black Branch (near Town of Maxton):
At the confluence with Little Bull Branch | •151
Approximately 0.5 mile upstream of Morrison Road | •171
Robeson County (Unincorporated Areas)
Bogue Swamp:
At the confluence with Little Marsh Swamp | •161
Approximately 1,325 feet upstream of State Route 71 | •187
Robeson County (Unincorporated Areas) |
Bracey Swamp:
At the confluence with Mitchell Swamp | •113
Approximately 250 feet downstream of Bracey Cemetary Road | •128
Bryant Swamp:
At the confluence with Big Swamp | •95
Approximately 1.0 mile upstream of the confluence with Big Swamp | •96
Robeson County (Unincorporated Areas) |
Buckhorn Swamp:
At the confluence with Cold Camp Creek | •144
Approximately 1.2 miles upstream of State Route 301 | •177
Robeson County (Unincorporated Areas)
Bull Branch:
Approximately 0.5 mile upstream of the confluence with Leith Creek | •129
Approximately 1,000 feet upstream of Benjamin Road | •175
Robeson County (Unincorporated Areas)
Burnt Swamp:
At the confluence with Richland Swamp | •140
Approximately 1,500 feet upstream of Melinda Road | •190
Robeson County (Unincorporated Areas) |
Cold Camp Creek:
At the confluence with Galberry Swamp | •144
Approximately 2.2 miles upstream of the confluence of Cold Camp Creek Tributary 2 | •165
Robeson County (Unincorporated Areas) |
Collection Canal:
Approximately 0.4 mile upstream of the confluence with Jacob Swamp | •113
At the confluence with Underpass Overland North | •119
Robeson County (Unincorporated Areas), City of Lumberton |
Contrary Swamp:
At the confluence with Michell Swamp | •111
Approximately 0.7 mile upstream of Interstate 95 | •119
Robeson County (Unincorporated Areas) |
Cotton Mill Branch:
At Martin Luther King Jr. Drive | •116
At the confluence with Underpass Overland South | •118
Robeson County (Unincorporated Areas), City of Lumberton |
Cowford Swamp:
At the confluence with McLeod Mill Branch | •105
Approximately 300 feet downstream of Butler Road | •121
Robeson County (Unincorporated Areas) |
Cowpen Branch:
At the confluence with Ten Mile Swamp | •145
Approximately 0.5 mile upstream of Interstate 95 | •149
Robeson County (Unincorporated Areas) |
Cowpen Swamp:
Approximately 0.5 mile downstream of Jordache Road | •80
Approximately 1,700 feet upstream of State Line Road | •92
Robeson County (Unincorporated Areas) |
Dunn's Marsh Creek:
At the confluence with Little Marsh Swamp | •155
Approximately 300 feet downstream of Mallory Road | •187
Robeson County (Unincorporated reas), Town of Parkton |
Dunn's Marsh Creek Tributary 1:
At the confluence with Dunn's Marsh Creek | •173
Approximately 0.5 mile upstream of Barlow Road | •186
Robeson County (Unincorporated Areas), Town of Parkton |
Dunn's Marsh Creek Tributary 2:
At the confluence with Dunn's Marsh Creek | •177
Approximately 0.3 mile upstream of State Route 71 | •183
Robeson County (Unincorporated Areas) |
First Swamp:
At the confluence with Wilkinson Creek | •129
Approximately 0.5 mile upstream of O'Quinn Road | •169
Robeson County (Unincorporated Areas) |
Five Mile Branch:
At downstream side of Meadow Road | •138
Approximately 0.5 mile upstream of Meadow Road | •139
Robeson County (Unincorporated Areas), City of Lumberton |
Frazier Branch:
At the confluence with Shoe Heel Creek | •149
Approximately 600 feet upstream of Fairley Road | •174
Robeson County (Unincorporated Areas) |
Fullermore Swamp:
At the confluence with Ashpole Swamp | •116
Approximately 300 feet upstream of State Route 710 | •126
Robeson County (Unincorporated Areas) |
Fullermore Swamp Tributary:
At the confluence with Fullermore Swamp | •126
Approximately 1,200 feet upstream of NW Railroad Avenue | •139
Robeson County (Unincorporated Areas) |
Galberry Swamp:
At the confluence with Big Swamp | •122
At the confluence of Cold Camp Creek and Buckhorn Swamp | •144
Robeson County (Unincorporated Areas) |
Gravel Branch:
At the confluence with Tenmile Swamp | •123
At Reagan Church Road | •133
Robeson County (Unincorporated Areas) |
Gum Branch:
At the confluence with Big Marsh Swamp | •152
Approximately 800 feet upstream of Covington Farm Road | •169
Robeson County (Unincorporated Areas) |
Gum Swamp:
At the upstream side of railroad | •169
Approximately 160 feet upstream of the Robeson/Hoke County boundary | •219
Robeson County (Unincorporated Areas) |
Hog Swamp:
At the confluence with Ashpole Swamp | •74
Approximately 1.9 miles upstream of Pleasant Hope Road | •132
Robeson County (Unincorporated Areas) |
Holy Swamp:
At the confluence with Raft Swamp | •126
Approximately 0.7 mile upstream of Evergreen Church Road | •149
Robeson County (Unincorporated Areas) |
Horn Camp Swamp:
At the confluence with Horse Swamp | •95
Approximately 500 feet upstream of Horne Camp Road | •115
Robeson County (Unincorporated Areas) |
Horns Millrace:
At the confluence with Ashpole Swamp | •89
Approximately 1,300 feet upstream of Farm Lane | •131
Robeson County (Unincorporated Areas) |
Horse Branch:
At the confluence with Big Marsh Swamp | •133
Approximately 100 feet downstream of E Great Marsh Church Road | •144
Robeson County (Unincorporated Areas) |
Horse Swamp:
At the confluence with Ashpole Swamp | •94
Approximately 500 feet downstream of railroad | •133
Robeson County (Unincorporated Areas) |
Humphrey Branch:
At the confluence with Raft Swamp | •148
Approximately 1.1 miles upstream of the confluence with Raft Swamp | •165
Robeson County (Unincorporated Areas) |
Indian Swamp:
At the confluence with Coward Swamp | •66
Approximately 0.47 mile upstream of Atkinson Road | •109
Robeson County (Unincorporated Areas), Town of Proctorville |
Jackson Swamp:
At the confluence with Big Swamp | •101
Approximately 1,400 feet downstream of Judge Road | •125
Robeson County (Unincorporated Areas) |
Jacob Diversion:
Approximately 0.4 mile downstream of Contempare Drive | •124
Approximately 0.3 mile upstream of Emery Road | •133
Robeson County (Unincorporated Areas), City of Lumberton |
Jacob Swamp:
Approximately 900 feet upstream of the confluence with Lumber River | •107
Approximately 0.5 mile upstream of Kenny Biggs Road | •121
Robeson County (Unincorporated Areas), City of Lumberton |
Jordan Swamp:
At the confluence with Gum Swamp | •187
At County boundary | •218
Robeson County (Unincorporated Areas) |
Jowers Branch:
At the confluence with Shoe Heel Creek | •159
Approximately 0.5 mile upstream of Charlie Watt Road | •190
Robeson County (Unincorporated Areas) |
Juniper Branch:
At the confluence with Raft Swamp | •170
Approximately 100 feet downstream of Johnson Road | •203
Robeson County (Unincorporated Areas) |
Lee's Branch:
At the confluence with Tenmile Swamp | •121
Approximately 1,000 feet upstream of Vester Road | •132
Robeson County (Unincorporated Areas) |
Leith Creek:
At State boundary | •125
At County boundary | •136
Robeson County (Unincorporated Areas) |
Little Bear Swamp:
Approximately 325 feet upstream of the confluence of Bear Swamp | •185
Approximately 150 feet upstream of WL Moore Woods Road | •188
Robeson County (Unincorporated Areas) |
Little Bull Branch:
At the confluence with Bull Branch | •139
Approximately 0.5 mile upstream of Bethea Road | •169
Robeson County (Unincorporated Areas) |
Little Burnt Swamp:
At the confluence with Burnt Swamp | •163
Approximately 0.4 mile upstream of Townsends Chapel Road | •178
Robeson County (Unincorporated Areas) |
Little Hog Swamp:
At the confluence with Hog Swamp | •106
Approximately 0.4 mile upstream of Greensville Road | •123
Robeson County (Unincorporated Areas) |
Little Indian Swamp:
At the confluence with Indian Swamp | •90
Approximately 400 feet downstream of State Route 130 | •97
Little Jacob Swamp:
Approximately 250 feet downstream of Lowette Road | •113
Approximately 1,000 feet downstream of Kenny Biggs Road | •122
Robeson County (Unincorporated Areas), City of Lumberton |
Little Juniper Branch:
At the upstream side of railroad | •170
Approximately 0.7 mile upstream of Hezekiah Road | •186
Robeson County (Unincorporated Areas) |
Little Marsh Swamp:
At the confluence with Galberry Swamp | •131
At the County boundary | •191
Robeson County (Unincorporated Areas), Town of Lumber Bridge |
Little Marsh Swamp Tributary:
At the confluence with Little Marsh Swamp | •171
Approximately 0.5 mile upstream of State Highway 20 | •182
Robeson County (Unincorporated Areas) |
Little Raft Swamp:
At the confluence with Raft Swamp | •155
At the Hoke/Robeson County boundary | •187
Robeson County (Unincorporated Areas), Town of Red Springs |
Little Swamp:
At the confluence with Big Swamp | •100
Approximately 0.9 mile upstream of Singletary Church Road | •107
Robeson County (Unincorporated Areas)
Little Tenmile Swamp:
At the confluence with Tenmile Swamp | •145
Approximately 850 feet upstream of McDuffie Crossing Road | •163
Robeson County (Unincorporated Areas) |
Long Branch (near City of Lumberton):
At the confluence with Big Swamp | •99
Approximately 1.0 mile upstream of McKinnon Rollin Road | •113
Robeson County (Unincorporated Areas) |
Long Branch (near Town of Parkton):
At the confluence with Buckhorn Swamp | •149
Approximately 1.5 miles upstream of Council Road | •169
Robeson County (Unincorporated Areas) |
Long Swamp:
At the confluence with Richland Swamp | •194
At County boundary | •208
Robeson County (Unincorporated Areas) |
Lumber River:
Approximately 1.9 miles upstream of Willoughby Road | •95
Approximately 0.4 mile downstream of NC 72 | •111
Robeson County (Unincorporated Areas), City of Lumberton |
McGregor Branch:
At the confluence with Shoe Heel Creek | •124
Approximately 0.4 mile upstream of Elsie Road | •151
Robeson County (Unincorporated Areas) |
McLeans Branch:
At the confluence with Little Raft Swamp | •171
Approximately 0.4 mile upstream of State Route 71 | •204
Robeson County (Unincorporated Areas), Town of Red Springs
McLeod Mill Branch:
At the confluence with Ashpole Swamp | •98
Approximately 1,800 feet downstream of Butler Road | •132
Robeson County (Unincorporated Areas) |
McLeod Mill Branch Tributary:
At the confluence with McLeod Mill Branch | •103
Approximately 0.74 mile upstream of the confluence with McLeod Mill Branch | •111
Robeson County (Unincorporated Areas) |
McRae Branch:
At the confluence with Shoe Heel Creek | •137
Approximately 0.6 mile upstream of U.S. Route 501 | •169
Robeson County (Unincorporated Areas) |
Mercer Branch:
At the confluence with Little Marsh Swamp | •133
Approximately 1,200 feet upstream of Interstate 95 | •167
Robeson County (Unincorporated Areas) |
Middle Branch:
At the confluence with Wilkinson Creek | •131
Approximately 850 feet upstream of McLeod Drive | •164
Robeson County (Unincorporated Areas) |
Mill Branch (near Town of Fairmont):
At the confluence with Ashpole Swamp | •85
Approximately 0.3 mile upstream of White Pond Road | •103
Robeson County (Unincorporated Areas) |
Mill Branch (near City of Lumberton):
At the confluence with Raft Swamp | •137
Approximately 0.5 mile upstream of East 4th Avenue | •154
Robeson County (Unincorporated Areas) |
Mirey Branch:
At the confluence with Big Marsh Swamp | •161
Approximately 0.4 mile upstream of the confluence with Big Marsh Swamp | •167
Robeson County (Unincorporated Areas) |
Mitchell Swamp:
At the State boundary | •111
Approximately 1,800 feet downstream of Viper Lane | •151
Robeson County (Unincorporated Areas) |
Moss Neck Swamp:
At the upstream side of Moss Neck Road | •144
Approximately 0.6 mile upstream of Chicken Road | •162
Robeson County (Unincorporated Areas) |
Old Field Branch:
At the confluence with Tenmile Swamp | •134
Approximately 0.5 mile upstream of the confluence with Ten Mile Swamp | •139
Robeson County (Unincorporated Areas) |
Old Field Swamp:
At the confluence with Hog Swamp | •86
Approximately 150 feet downstream of Interstate 95 | •135
Robeson County (Unincorporated Areas), Town of Fairmont
Old Field Swamp Tributary:
At the confluence with Old Field Swamp | •103
Approximately 500 feet upstream of railroad | •127
Robeson County (Unincorporated Areas) |
Red Hill Branch:
At the confluence with Hog Swamp | •93
Approximately 1,300 feet upstream of the confluence with Hog Swamp | •95
Robeson County (Unincorporated Areas) |
Panther Branch
At the confluence with Richland Swamp | •154
Approximately 0.3 mile upstream of Old Lowry Road | •201
Robeson County (Unincorporated Areas) |
Pittman Mill Branch:
At the confluence with Old Field Swamp | •92
Approximately 0.4 mile upstream of Pittman Street | •113
Robeson County (Unincorporated Areas), Town of Fairmont |
Raft Swamp:
Approximately 0.5 mile upstream of the confluence with the Lumber River | •123
At the Robeson/Hoke County boundary | •182
Robeson County (Unincorporated Areas) |
Reedy Branch:
At the confluence with Old Field Swamp | •111
Approximately 0.7 mile upstream of the confluence with Old Field Swamp | •121
Robeson County (Unincorporated Areas) |
Richland Swamp:
At the confluence with Raft Swamp | •133
Approximately 0.5 mile upstream of Mount Zion Church Road | •210
Robeson County (Unincorporated Areas) |
Saddletree Swamp:
Approximately 1,250 feet upstream of McDuffie Crossing Road | •155
Approximately 0.8 mile upstream of McDuffie Crossing Road | •158
Robeson County (Unincorporated Areas) |
Saddletree Swamp Tributary:
At the upstream side of Mt. Moriah Church Road | •144
Approximately 500 feet upstream of W Powersville Road | •147
Robeson County (Unincorporated Areas), City of Lumberton |
Scotts Mill Branch:
At the confluence with Ashpole Swamp | •105
Approximately 0.63 mile downstream of U.S. Route 301 | •134
Robeson County (Unincorporated Areas) |
Shoe Heel Creek:
At State boundary | •114
At Scotland/Robeson County boundary | •164
Robeson County (Unincorporated Areas), Town of Maxton |
Short Swamp:
At the confluence with Wilkinson Creek | •129
Approximately 0.3 mile downstream of Cabinet Shop Road | •140
Robeson County (Unincorporated Areas) |
Tenmile Swamp:
At the confluence with Big Swamp | •116
Approximately 1,450 feet upstream of McDuffie Crossing Road | •162
Robeson County (Unincorporated Areas) |
Tenmile Swamp Tributary:
At the confluence with Tenmile Swamp | •127
Approximately 1,050 feet upstream of E Powersville Road | •137
Robeson County (Unincorporated Areas) |
Thick Branch:
At the confluence with Tenmile Swamp | •126
Approximately 1,400 feet upstream of Indian Heritage Road | •133
Robeson County (Unincorporated Areas) |
Town Ditch:
At the confluence with Mitchell Swamp | •119
Approximately 0.9 mile upstream of the confluence with Mitchell Swamp | •129
Robeson County (Unincorporated Areas), Town of Rowland |
Underpass Overland North:
At the confluence with Collection Canal | •119
At the confluence with Underpass Overland South | •119
City of Lumberton |
Underpass Overland South:
At the confluence with Cotton Mill Branch | •118
Approximately 150 feet upstream of Interstate 95 | •124
City of Lumberton |
Watering Hole Swamp:
At the confluence with Wilkinson Creek | •135
Approximately 50 feet downstream of O'Quinn Road | •167
Robeson County (Unincorporated Areas) |
White Oak Branch:
At the confluence with Raft Swamp | •129
Approximately 0.4 mile upstream of Oak Grove Ch. Road | •148
Robeson County (Unincorporated Areas) |
White Oak Swamp:
At the confluence with Big Swamp | •110
Approximately 1,100 feet upstream of Howell Road | •135
Robeson County (Unincorporated Areas) |
Wildcat Branch:
At the confluence with Tenmile Swamp | •116
Approximately 0.4 mile upstream of Smith Mill Road | •132
Robeson County (Unincorporated Areas) |
Wilkinson Creek:
At the confluence with Shoe Heel Creek | •117
Approximately 450 feet downstream of O'Quinn Road | •167
Robeson County (Unincorporated Areas) |
Wilkinson Creek Tributary:
At the confluence with Wilkinson Creek | •122
Approximately 1.5 miles upstream of Gaddy's Mill Road | •154
Robeson County (Unincorporated Areas) |
Town of Fairmont
Maps available for inspection at the Fairmont Town Hall, 421 South Main Street, Fairmont, North Carolina.
———
Town of Lumber Bridge
Maps available for inspection at the Lumber Bridge Town Hall, 101 Railroad Street, Lumber Bridge, North Carolina.
———
City of Lumberton
Maps available for inspection at the City of Lumberton Planning Department, 501 East 5th Street, Lumberton, North Carolina.
———
Town of Maxton
Maps available for inspection at the Maxton Town Hall, 201 McCaskill Street, Maxton, North Carolina.
———
Town of Parkton
Maps available for inspection at the Parkton Town Hall, 28 West Second Street, Parkton, North Carolina.
———
Town of Proctorville
Maps available for inspection at the Proctorville Town Hall, Corner of Carolina & Main Street, Proctorville, North Carolina.
———
Town of Red Springs
Maps available for inspection at the Red Springs Town Hall, 217 South Main Street, Red Springs, North Carolina.
———
Robeson County (Unincorporated Areas)
Maps available for inspection at the Robeson County Inspections & Zoning Office, 415 Country Club Drive, Lumberton, North Carolina.
———
Town of Rowland
Maps available for inspection at the Rowland Town Hall, 202 West Main Street, Rowland, North Carolina.
VIRGINIA
Albemarle County (FEMA Docket No. D-7586)
Cow Branch:
At the confluence with Moores Creek | •333
Approximately 285 feet upstream of Mill Creek Drive | •439
Albemarle County (Unincorporated Areas) |
Flat Branch:
At the confluence with North Fork Rivanna River | •386
Approximately 4,890 feet upstream of the confluence with Flat Branch Tributary | •441
Albemarle County (Unincorporated Areas) |
Flat Branch Tributary:
At the confluence with Flat Branch | •386
Approximately 2,490 feet upstream of Lewis & Clark Drive | •442
Albemarle County (Unincorporated Areas) |
Herring Branch:
At the confluence with North Fork Rivanna River | •389
Approximately 2,530 feet upstream of private drive | •443
Albemarle County (Unincorporated Areas) |
Jacobs Run:
At the confluence with North Fork Rivanna River | •396
At the Chris Green Lake Dam | •396
Albemarle County (Unincorporated Areas) |
Lickinghole Creek:
Approximately 70 feet downstream of railroad bridge | •501
Approximately 150 feet upstream of Jarmans Gap Road | •902
Albemarle County (Unincorporated Areas) |
North Fork Rivanna River:
At the confluence with Rivanna River | •356
Approximately 1,375 feet upstream of Dickerson Road | •398
Albemarle County (Unincorporated Areas) |
Powells Creek:
At the confluence with Lickinghole Creek | •623
Approximately 320 feet upstream of Railroad Avenue | •786
Albemarle County (Unincorporated Areas) |
Rivanna River:
At the County boundary | •287
At the confluence with North Fork Rivanna River | •356
Albemarle County (Unincorporated Areas), Independent City of Charlottesville |
Slabtown Branch:
At the confluence with Lickinghole Creek | •600
Approximately 3,000 feet upstream of State Route 684 | •766
Albemarle County (Unincorporated Areas) |
Moores Creek:
At the confluence with Rivanna River | •329
Approximately 1,300 feet downstream of State Route 20 | •330
Albemarle County (Unincorporated Areas), Independent City of Charlottesville |
Meadow Creek:
At the confluence with Rivanna River | •345
Approximately 100 feet upstream of Rio Road | •358
Albemarle County (Unincorporated Areas), Independent City of Charlottesville |
South Fork Rivanna River:
At the confluence with Rivanna River | •356
Approximately 630 feet upstream of the confluence of Powell Creek | •358
Albemarle County (Unincorporated Areas) |
Albemarle County (Unincorporated Areas)
Maps available for inspection at the Albemarle County Engineering Office, 401 McIntire Road, Charlottesville, Virginia.
———
Independent City of Charlottesville
Maps available for inspection at the Charlottesville City Hall,Neighborhood Development Services, 4th Street, NW., Charlottesville,Virginia.———
NEW YORK
Hoosick Falls (Village), Rensselaer County (FEMA Docket No. D-7580)
Hoosick River:
Approximately 2,000 feet downstream of Church Street | *411
Approximately 0.51 mile upstream of Boston and Maine Railroad | *432
Maps available for inspection at Hoosick Falls Village Office, 24 Main Street, Hoosick Falls, New York.
VIRGINIA
Roanoke County (FEMA Docket No. D-7588)
Peters Creek Tributary A:
At the confluence with Peters Creek | *1,106
Approximately 160 feet upstream of Timberview Road | *1,220
Roanoke County (Unincorporated Areas) |
Peters Creek:
Approximately 1,150 feet upstream of the confluence with Roanoke River | * 968
At the confluence of Peters Creek Tributaries A and B | * 1,106
City of Roanoke, Roanoke County (Unincorporated Areas) |
Peters Creek Tributary B:
At the confluence with Peters Creek | * 1,106
Approximately 2,000 feet upstream of the confluence with Peters Creek | * 1,127
Roanoke County (Unincorporated Areas) |
Peters Creek Tributary C:
Approximately 20 feet upstream of the confluence with Peters Creek | * 1,028
Approximately 1,100 feet upstream of Embassy Drive | * 1,088
City of Roanoke, Roanoke County (Unincorporated Areas) |
Roanoke County (Unincorporated Areas)
Maps available for inspection at the Roanoke County Engineering Office, 5204 Bernard Drive S.W., Roanoke, Virginia.
City of Roanoke
Maps available for inspection at the City of Roanoke Engineer's Office, 215 Church Street, Room 350, Roanoke, Virginia.
———
Send comments to The Honorable Ralph Smith, Mayor of the City of Roanoke, 215 Church Street, Room 452, Roanoke, Virginia 24011-1594.

(Catalog of Federal Domestic Assistance No. 83.100, “Flood Insurance.”)
Dated: August 9, 2004.
David I. Maurstad,
Acting Director , Mitigation Division, Emergency Preparedness and Response Directorate.

[FR Doc. 04-18688 Filed 8-13-04; 8:45 am]

BILLING CODE 9110-12-P